DEPARTMENT OF COMMERCE

Foreign-Trade Zones Board

[Order No. 2006]

Reorganization of Foreign-Trade Zone 172 Under Alternative Site Framework, Oneida County, New York

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the County of Oneida, grantee of Foreign-Trade Zone 172, submitted an application to the Board (FTZ Docket B-19-2016, docketed April 12, 2016) for authority to reorganize under the ASF with a service area of Oneida County, New York, adjacent to the Syracuse Customs and Border Protection port of entry, FTZ 172's existing Site 2a would be renumbered as Site 6 and included as a magnet site, Sites 1, 2, 3, 4, 5 and Subzone 172A would be removed from the zone, and the grantee proposes an additional magnet site (Site 7);

Whereas, notice inviting public comment was given in the Federal Register (81 FR 22210-22211, April 15, 2016) and the application has been processed pursuant to the FTZ Act and the Board's regulations; and,

Whereas, the Board adopts the findings and recommendation of the examiner's report, and finds that the requirements of the FTZ Act and the Board's regulations are satisfied;

Now, Therefore, the Board hereby orders:

The application to reorganize FTZ 172 under the ASF is approved, subject to the FTZ Act and the Board's regulations, including Section 400.13, to the Board's standard 2,000-acre activation limit for the zone, and to an ASF sunset provision for magnet sites that would terminate authority for Site 7 if not activated within five years from the month of approval.

Signed at Washington, DC, this 29th day of July 2016.
Ronald K. Lorentzen,
Acting Assistant Secretary of Commerce for Enforcement and Compliance, Alternate Chairman, Foreign-Trade Zones Board.
Attest:
Andrew McGilvray,
Executive Secretary.

[FR Doc. 2016-18667 Filed 8-4-16; 8:45 am]

BILLING CODE 3510-DS-P